DEPARTMENT OF DEFENSE

Department of the Army

[Docket ID: USA-2015-0009]

Proposed Collection; Comment Request

AGENCY: U.S. Army Corps of Engineers, Civil Works Directorate, Department of Army.

ACTION: Notice.

SUMMARY: In compliance with the Paperwork Reduction Act of 1995, the U.S. Army Corps of Engineers, Civil Works Directorate, Department of Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by May 4, 2015.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to U.S. Army Engineer District, Mobile; ATTN: PM-IC (Linda Peterson); 109 Saint Joseph Street, Mobile, Alabama 36602 or call 251.694.3848.

SUPPLEMENTARY INFORMATION:

Title; Associated Form; and OMB Number: U.S. Army Corps of Engineers, Civil Works Program Evaluation; 0702-XXXX.

Needs and Uses: We in the U.S. Army Corps of Engineers are sincerely interested in meeting the expectations of our customers and stakeholders. To determine how we are doing, we conduct our annual Civil Works Program Evaluation. The purpose of this survey is to assess the quality of products and services we deliver during the previous calendar year. The information collected will help determine which areas of services need improvement and where we are doing well.

Affected Public: Civil Works Program customers and stakeholders.

Annual Burden Hours: 250.

Number of Respondents: 1500.

Responses per Respondent: 1.

Average Burden per Response: 10 minutes.

Frequency: Annually.

Respondents include all organizational representatives who participated in the planning or execution of a Civil Works (CW) project within the targeted calendar year. These are external agents with whom Corps staff has had significant interaction who can potentially impact or influence the successful execution of a Corps CW project. This includes `traditional customers' i.e., representatives of agencies that are direct recipients of Corps services who directly or indirectly provide a source of income for the District. In addition to traditional customers as defined below, the CECW Survey population includes stakeholder agencies. Stakeholder agencies are not direct recipients of Corps services but participate in the project execution process. Their staff interacts with Corps staff and participates in a significant degree in project planning, oversight and/or execution.

Dated: February 26, 2015.
Aaron Siegel,
Alternate OSD Federal Register Liaison Officer, Department of Defense.

[FR Doc. 2015-04356 Filed 3-2-15; 8:45 am]

BILLING CODE 5001-06-P